DEPARTMENT OF ENERGY

Federal Energy Regulatory Commission

[Docket No. RP00-63-002]

Great Lakes Gas Transmission Limited Partnership; Notice of Proposed Changes in FERC Gas Tariff

March 28, 2001.

Take notice that on March 23, 2001, Great Lakes Gas Transmission Limited Partnership (Great Lakes) tendered for filing as part of its FERC Gas Tariff, Second Revised Volume No. 1, the tariff sheets listed on Appendix A to the filing, to become effective April 30, 2001.

Great Lakes states that the tariff sheets listed on Appendix A are being filed in conformance with section 154.202 of the Commission's regulations to implement a new Limited Firm Transportation Service under Rate Schedule LFT. Under Rate Schedule LFT, service will be firm except that service will be unavailable for a specified number of days, as mutually agreed to by the parties.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-8112 Filed 4-2-01; 8:45 am]

BILLING CODE 6717-01-M